DEPARTMENT OF COMMERCE

International Trade Administration

North American Free-Trade Agreement (NAFTA), Article 1904 Binational Panel Reviews

AGENCY: NAFTA Secretariat, United States Section, International Trade Administration, Department of Commerce.

ACTION: Notice of Decision of Panel.

SUMMARY: On December 5, 2012, the NAFTA Chapter 19 binational panel issued its decision in the review of the final results of the 2008/2009 antidumping administrative review made by the U.S. Department of Commerce, respecting Light-Walled Rectangular Pipe and Tube from Mexico, NAFTA Secretariat File Number USA-MEX-2011-1904-02. The panel remanded the matter to the U.S. Department of Commerce and Ordered that Commerce provide the Panel with its explanation regarding its practice of zeroing in administrative reviews, but not in antidumping investigations. Copies of the panel's decision are available from the U.S. Section of the NAFTA Secretariat.

FOR FURTHER INFORMATION CONTACT: Ellen M. Bohon, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686). The panel review in this matter has been conducted in accordance with these Rules.

Panel Decision: On December 5, 2012, the binational panel remanded the matter of Light-Walled Rectangular Pipe and Tube from Mexico (NAFTA Secretariat File Number USA-MEX-2011-1904-02) to the U.S. Department of Commerce to provide a thorough explanation of why it is a reasonable interpretation of the statute to engage in zeroing in administrative reviews, but not in antidumping investigations. The panel directed Commerce to provide such explanation within 90 days of the date of issue of the panel's Decision and Order. (March 5, 2013)

Dated: December 5, 2012.
Ellen M. Bohon,
U.S. Secretary, NAFTA Secretariat.

[FR Doc. 2012-30025 Filed 12-12-12; 8:45 am]

BILLING CODE 3510-GT-P